DEPARTMENT OF HEALTH AND HUMAN SERVICES

Centers for Medicare & Medicaid Services

[Document Identifier: CMS-P-0015A]

Emergency Clearance: Public Information Collection Requirements Submitted to the Office of Management and Budget (OMB)

AGENCY: Centers for Medicare & Medicaid Services, HHS.

ACTION: Notice.

SUMMARY: The Centers for Medicare and Medicaid Services (CMS) is requesting that a new information collection request (ICR) related to the Medicare Current Beneficiary Survey (MCBS) (OMB clearance 0938-0568) be processed under the emergency clearance process. Due to CMS' determination that this collection of information is needed prior to the expiration of time periods established under its regulations, an emergency clearance is requested. Once the emergency information collection request is approved, CMS plans to seek public comments during the required 60-day and 30-day notice and comment periods associated with obtaining a standard (non-emergency) OMB approval for extending the information collection request as part of the MCBS (collected under 0938-0568). The approval of this information collection package is necessary because of the urgent need to obtain timely data to assess the impact of the coronavirus pandemic on the Medicare population. Adding a COVID-19 Supplement to the MCBS data collection in October 2020 will provide critical information to CMS and the public.

DATES: Comments must be received by July 27, 2020.

ADDRESSES: When commenting, please reference the document identifier or OMB control number. To be assured consideration, comments and recommendations must be submitted within 10 days in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number ___, Room C4-26-05, 7500 Security Boulevard, Baltimore, Maryland 21244-1850.

To obtain copies of a supporting statement and any related forms for the proposed collection(s) summarized in this notice, you may make your request using one of following:

1. Access CMS' website address at https://www.cms.gov/Regulations-and-Guidance/Legislation/PaperworkReductionActof1995/PRA-Listing.

FOR FURTHER INFORMATION CONTACT: William Parham at (410) 786-4669.

SUPPLEMENTARY INFORMATION: Under the PRA, Federal agencies are required to publish notice in the Federal Register concerning each proposed ICR. Interested persons are invited to send comments regarding our burden estimates or any other aspect of this ICR including the necessity and utility of the proposed ICR for the proper performance of the agency's functions, the accuracy of the estimated burden, ways to enhance the quality, utility, and clarity of the information to be collected and the use of automated collection techniques or other forms of information technology to minimize the information collection burden.

Contents

This notice sets out a summary of the use and burden associated with the following ICR. More detailed information can be found in the collection's supporting statement and associated materials (see ADDRESSES).

CMS-P-0015A Medicare Current Beneficiary Survey (MCBS) COVID-19 Rapid Response Supplement

Under the PRA (44 U.S.C. 3501-3520), Federal agencies must obtain approval from the Office of Management and Budget (OMB) for each collection of information they conduct or sponsor. The term “collection of information” is defined in 44 U.S.C. 3502(3) and 5 CFR 1320.3(c) and includes agency requests or requirements that members of the public: Submit reports, keep records, or provide information to a third party. To comply with this requirement, CMS is publishing this notice that summarizes the following proposed collection(s) of information for public comment:

Information Collection

1. Type of Information Collection Request: New collection (Request for a new OMB control number); Title of Information Collection: Medicare Current Beneficiary Survey (MCBS) COVID-19 Rapid Response Supplement; Use: CMS is the largest single payer of health care in the United States. The agency plays a direct or indirect role in administering health insurance coverage for more than 120 million people across the Medicare, Medicaid, CHIP, and Exchange populations. A critical aim for CMS is to be an effective steward, major force, and trustworthy partner in supporting innovative approaches to improving quality, accessibility, and affordability in healthcare. CMS also aims to put patients first in the delivery of their health care needs.

The Medicare Current Beneficiary Survey (MCBS) is the most comprehensive and complete survey available on the Medicare population and is essential in capturing data not otherwise collected through our operations. The MCBS is a nationally-representative, longitudinal survey of Medicare beneficiaries that we sponsor and is directed by the Office of Enterprise Data and Analytics (OEDA). The survey captures beneficiary information whether aged or disabled, living in the community or facility, or serviced by managed care or fee-for-service. Data produced as part of the MCBS are enhanced with our administrative data (e.g. fee-for-service claims, prescription drug event data, enrollment, etc.) to provide users with more accurate and complete estimates of total health care costs and utilization. The MCBS has been continuously fielded for more than 28 years, encompassing over 1 million interviews and more than 100,000 survey participants. Respondents participate in up to 11 interviews over a four year period. This gives a comprehensive picture of health care costs and utilization over a period of time.

With the emergence of the COVID-19 pandemic in the U.S., CMS is uniquely positioned to quickly collect vital information on how the pandemic is impacting the Medicare population by utilizing the MCBS. MCBS beneficiaries, by definition, are most at risk for underlying conditions that may lead to more severe COVID-19 complications. This new clearance requests approval to add the Fall COVID-19 Supplement to the MCBS Fall 2020 Round 88 data collection conducted under 0938-0568. Due to the emergence of this public health crisis, a Supplement to the MCBS is especially well-suited to provide CMS critical data on measures of Medicare beneficiary knowledge about telehealth, social distancing and other important preventive health behaviors, along with updated information about COVID-19 testing and the results of those tests. Since the MCBS has a sample size sufficient for estimation, it provides a ready source to obtain high quality data.

The MCBS COVID-19 Supplement will be administered to respondents living in the community and to facility staff who answer questions on behalf of the sampled beneficiary. Respondents will participate by telephone to answer the Supplement questions. In accordance with the implementing regulations of the PRA at 5 CFR 1320.13, CMS is requesting emergency processing for this ICR because it cannot reasonably comply with normal clearance procedures. Upon OMB approval of this emergency clearance request, CMS will follow the normal clearance procedures for the MCBS ICR under 0938-0568.

Form Number: CMS-P-0015A (OMB control number: 0938-NEW); Frequency: One-time collection; Affected Public: Business or other for-profits and Not-for-profit institutions; Number of Respondents: 11,536; Total Annual Responses: 11,536; Total Annual Hours: 3,229. (For policy questions regarding this collection contact William Long at 410-786-7927.)

Dated: July 15, 2020.
William N. Parham, III,
Director, Paperwork Reduction Staff, Office of Strategic Operations and Regulatory Affairs.

[FR Doc. 2020-15677 Filed 7-17-20; 8:45 am]

BILLING CODE 4120-01-P